DEPARTMENT OF HOMELAND SECURITY

Transportation Security Administration

Revision of an Agency Information Collection Activity Under OMB Review: Security Appointment Center (SAC) Visitor Request Form and Foreign National Vetting Request

AGENCY: Transportation Security Administration, DHS.

ACTION: 30-Day notice.

SUMMARY: This notice announces that the Transportation Security Administration (TSA) has forwarded the Information Collection Request (ICR), Office of Management and Budget (OMB) control number 1652-0068, abstracted below to OMB for review and approval of a revision of the currently approved collection under the Paperwork Reduction Act (PRA). The collection involves gathering information from individuals who plan to visit all TSA facilities in the National Capital Region (NCR). In addition, TSA is revising the collection to transition TSA Forms 2802, 2816A, and 2816B into Common Forms to streamline the information collection process.

DATES: Send your comments by June 1, 2020. A comment to OMB is most effective if OMB receives it within 30 days of publication.

ADDRESSES: Interested persons are invited to submit written comments on the proposed information collection to the Office of Information and Regulatory Affairs, OMB. Comments should be identified by Docket ID: TSA-2013-0001 and sent to the Federal eRulemaking Portal, http://www.regulations.gov. Please follow the portal instructions for submitting comments. This process is conducted in accordance with 5 CFR 1320.1.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on March 4, 2020, 85 FR 12800.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Security Appointment Center (SAC) Visitor Request Form and Foreign National Vetting Request.

Type of Request: Revision of a currently approved collection.

OMB Control Number: 1652-0068.

Form(s): TSA Forms 2802, 2816A, and 2816B.

Affected Public: Visitors to TSA facilities in the National Capital Region.

Abstract: The Secretary of the Department of Homeland Security (DHS) is authorized to protect property owned, occupied, or secured by the Federal Government. See 40 U.S.C. 1315. See also 41 CFR 102-81.15 (requires Federal agencies to be responsible for maintaining security at their own or leased facilities). To implement this requirement, DHS policy requires all visitors to DHS facilities in the NCR ¹ to have a criminal history records check through the National Crime Information Center (NCIC) system before accessing the facility. In reviewing the NCIC results, TSA will consider whether an individual could potentially pose a threat to the safety of TSA employees, contractors, visitors, or the facility. TSA is revising the collection to transition the applicable forms, TSA Forms 2802, 2816A, and 2816B, into Common Forms. Common Forms permit Federal agency users beyond the agency that created the form (e.g., Department of Homeland Security or U.S. Office of Personnel Management) to streamline the information collection process in coordination with OMB.

¹ TSA facilities in the NCR include TSA Headquarters, the Freedom Center, the Transportation Security Integration Facility (TSIF), the Metro Park office complex (Metro Park), and the Annapolis Junction facility (AJ).

Number of Respondents: 29,595.

Estimated Annual Burden Hours: An estimated 226 hours annually.

Dated: April 28, 2020 .
Christina A. Walsh,
TSA Paperwork Reduction Act Officer, Information Technology.

[FR Doc. 2020-09349 Filed 4-30-20; 8:45 am]

BILLING CODE 9110-05-P